NATIONAL FOUNDATION ON THE ARTS AND THE HUMANITIES

National Endowment for the Humanities

Meeting of Humanities Panel

AGENCY: National Endowment for the Humanities.

ACTION: Notice of meeting.

SUMMARY: The National Endowment for the Humanities will hold twenty-one meetings of the Humanities Panel, a federal advisory committee, during August 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meeting:

1. Date: August 1, 2018.

This meeting will discuss applications on the topics of American History and Studies, and Media Studies, for the NEH-Mellon Fellowships, submitted to the Division of Research Programs.

2. Date: August 9, 2018.

This meeting will discuss applications on the topics of European History and Archaeology: Ancient to Modern, for the Fellowships grant program, submitted to the Division of Research Programs.

3. Date: August 9, 2018.

This meeting will discuss applications on the topic of Literature, for the Fellowships grant program, submitted to the Division of Research Programs.

4. Date: August 10, 2018.

This meeting will discuss applications on the topics of Religion and Asian Studies, for the Fellowships grant program, submitted to the Division of Research Programs.

5. Date: August 10, 2018.

This meeting will discuss applications on the topic of the Arts, for the Fellowships grant program, submitted to the Division of Research Programs.

6. Date: August 13, 2018.

This meeting will discuss applications on the topic of American History, for the Fellowships grant program, submitted to the Division of Research Programs.

7. Date: August 13, 2018.

This meeting will discuss applications on the topics of Arts & Languages (Level I projects), for Digital Humanities Advancement Grants, submitted to the Office of Digital Humanities.

8. Date: August 14, 2018.

This meeting will discuss applications on the topic of American Studies, for the Fellowships grant program, submitted to the Division of Research Programs.

9. Date: August 14, 2018.

This meeting will discuss applications on the topics of Political Science, Social Sciences, History of Science, and Philosophy, for the Fellowships grant program, submitted to the Division of Research Programs.

10. Date: August 15, 2018.

This meeting will discuss applications on the topics of Area Studies and Anthropology, for the Fellowships grant program, submitted to the Division of Research Programs.

11. Date: August 15, 2018.

This meeting will discuss applications on the topic of Literature, for the Fellowships grant program, submitted to the Division of Research Programs.

12. Date: August 15, 2018.

This meeting will discuss applications on the topic of History (Level I projects), for Digital Humanities Advancement Grants, submitted to the Office of Digital Humanities.

13. Date: August 15, 2018.

This meeting will discuss applications for the Preservation Education and Training grant program, submitted to the Division of Preservation and Access.

14. Date: August 16, 2018.

This meeting will discuss applications for the Preservation Education and Training grant program, submitted to the Division of Preservation and Access.

15. Date: August 16, 2018.

This meeting will discuss applications on the topics of Textual Analysis and Linguistics, for Digital Humanities Advancement Grants, submitted to the Office of Digital Humanities.

16. Date: August 20, 2018.

This meeting will discuss applications on the topic of Media Studies, for Digital Humanities Advancement Grants, submitted to the Office of Digital Humanities.

17. Date: August 21, 2018.

This meeting will discuss applications on the topics of Digital Collections and Archives, for Digital Humanities Advancement Grants, submitted to the Office of Digital Humanities.

18. Date: August 21, 2018.

This meeting will discuss applications on the topic of Cultural Heritage, for the Research and Development grant program, submitted to the Division of Preservation and Access.

19. Date: August 22, 2018.

This meeting will discuss applications on the topics of Geospatial and Visualization, for Digital Humanities Advancement Grants, submitted to the Office of Digital Humanities.

20. Date: August 22, 2018.

This meeting will discuss applications on the topics of Conservation and Material Studies, for the Research and Development grant program, submitted to the Division of Preservation and Access.

21. Date: August 23, 2018.

This meeting will discuss applications on the topic of Digital Preservation, for the Research and Development grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: July 11, 2018.
Elizabeth Voyatzis,
Committee Management Officer, National Endowment for the Humanities.

[FR Doc. 2018-15165 Filed 7-16-18; 8:45 am]

BILLING CODE 7536-01-P